DEPARTMENT OF TRANSPORTATION

Federal Aviation Administration

14 CFR Parts 1, 101, 400, and 401

[Docket No. FAA-2007-27390; Notice No. 07-06]

RIN 2120-AI88

Requirements for Amateur Rocket Activities; Correction

AGENCY: Federal Aviation Administration (FAA), DOT.

ACTION: Notice of Proposed Rule; correction.

SUMMARY: This document corrects the docket number to a proposed rule published in the Federal Register of Thursday, June 14, 2007, regarding Requirements for Amateur Rocket Activities.

DATES: The comment period will close September 12, 2007.

FOR FURTHER INFORMATION CONTACT: Charles P. Brinkman, telephone: (202) 493-4562, or E-mail: phil.brinkman@faa.gov.

Correction

In proposed rule Requirements for Amateur Rocket Activities beginning on page 32816 in the Federal Register issue of June 14, 2007, make the following corrections.

1. On page 32816, in the first column, fourth line of the heading, “Docket No. FAA-2007-27310” should have read, “Docket No. FAA-2007-27390.”

2. On page 32816, in the first column, in the ADDRESSES paragraph, in the second and third lines, “Docket Number FAA-2007-27310” should have read “Docket Number FAA-2007-27390.”

Issued in Washington, DC on June 21, 2007.
Pamela Hamilton-Powell,
Director, Office of Rulemaking.

[FR Doc. E7-12463 Filed 6-27-07; 8:45 am]

BILLING CODE 4910-13-P